DEPARTMENT OF ENERGY

Federal Energy Regulatory Commission

[Docket No. RT01-35-000; Docket No. RT01-15-000]

Avista Corporation, Bonneville Power Administration, Idaho Power Company, Montana Power Company, Nevada Power Company, PacifiCorp, Portland General Electric Company, Puget Sound Energy, Inc., Sierra Pacific Power Company; Avista Corporation, Montana Power Company, Nevada Power Company, Portland General Electric Company, Puget Sound Energy, Inc., Sierra Pacific Power Company; Notice of Technical Conference

May 11, 2001.

Take notice that Commission Staff will hold a technical conference to discuss liability issues presented by the RTO West/TransConnect application on May 24, 2001, beginning at 2 p.m. in a room to be designated at the offices of the Federal Energy Regulatory Commission, 888 First Street, NE., Washington, DC 20426.

All interested persons are permitted to attend.

David P. Boergers,
Secretary.

[FR Doc. 01-12428 Filed 5-11-01; 8:45 am]

BILLING CODE 6717-01-M